POSTAL RATE COMMISSION

Facility Tour

AGENCY: Postal Rate Commission.

ACTION: Notice of Commission tour.

SUMMARY: Postal Rate Commissioners and advisory staff members will tour a Netflix facility in Rockville, Maryland on February 15, 2006. The purpose of the tour is to observe operations.

DATES: February 25, 2006.

FOR FURTHER INFORMATION CONTACT: Steven Williams, Secretary, Postal Rate Commission, (202) 789-6842.

Steven W. Williams,
Secretary.

[FR Doc. 06-1540 Filed 2-16-06; 8:45 am]

BILLING CODE 7710-FW-M